DEPARTMENT OF HEALTH AND HUMAN SERVICES

Health Resources and Services Administration

Notice To Announce Supplemental Award To Support Training and Technical Assistance To Address Clinical Workforce Development

AGENCY: Health Resources and Services Administration (HRSA), Department of Health and Human Services.

ACTION: Announcing supplemental award to support training and technical assistance to address clinical workforce development.

SUMMARY: HRSA provided supplemental funding to Community Health Center, Inc. (CHCI), a currently-funded National Training and Technical Assistance Partner (NTTAP) award recipient. CHCI will expand training and technical assistance (T/TA) to health centers and HRSA-funded State and Regional Primary Care Associations (PCAs) to support implementation of a tool developed for health centers to assess and improve their readiness to engage in health professional training programs and address national health care workforce shortages.

FOR FURTHER INFORMATION CONTACT: Tracey Orloff, Director, HRSA, Strategic Partnerships Division, Office of Quality Improvement, at TOrloff@hrsa.gov or (301) 443-3197.

SUPPLEMENTARY INFORMATION:

Recipient of the Award: Community Health Center, Inc.

Amount of Non-Competitive Award: $320,000.

Period of Supplemental Funding: August 2020 to June 2022.

CFDA Number: 93.129.

Authority: Section 330(l) of the Public Health Service Act, 42 U.S.C. 254b(l).

Justification: The National Center for Health Workforce Analysis estimates a shortage of over 23,000 primary care physician positions by 2025. Residency programs are needed for health centers to address health care workforce shortages that limit their ability to deliver comprehensive, culturally competent, high quality primary health care services.

CHCI created the Readiness to Train Assessment Tool (RTAT™) for health centers to assess their own readiness to engage in health professional training programs and use the results to manage their workforce shortages. Supplemental funding is necessary to ensure timely implementation of the RTAT™ in order to complete the data collection, analysis, and results dissemination needed for health centers to address critical workforce shortages. As the organization that developed the RTAT™, and the only NTTAP currently funded to provide enhanced T/TA on clinical workforce development to health centers, CHCI has the necessary expertise, organizational systems, and structure in place to immediately expand T/TA efforts in this area.

Thomas J. Engels,
Administrator.

[FR Doc. 2020-21514 Filed 9-28-20; 8:45 am]

BILLING CODE 4165-16-P